ELECTION ASSISTANCE COMMISSION

Sunshine Act Notice

AGENCY: U.S. Election Assistance Commission.

ACTION: Notice of public meeting agenda.

DATE AND TIME: Thursday, April 8, 2010, 10 a.m.-12:15 p.m. EDT (Morning Session), 1:15 p.m.-3 p.m. EDT (Afternoon Session).

PLACE: U.S. Election Assistance Commission, 1225 New York Ave, NW., Suite 150, Washington, DC 20005, (Metro Stop: Metro Center).

AGENDA: The Commission will hold a public meeting to receive an update on a clearinghouse policy. Commissioners will hold a discussion on a public comment version of a UOCAVA pilot program testing and certification manual. Commissioners will hold a discussion on a UOCAVA pilot voting program and requirements document. Commissioners will consider other administrative matters. Members of the public may observe but not participate in EAC meetings unless this notice provides otherwise. Members of the public may use small electronic audio recording devices to record the proceedings. The use of other recording equipment and cameras requires advance notice to and coordination with the Commission's Communications Office.¹

¹ View EAC Regulations Implementing Government in the Sunshine Act.

This Meeting and Hearing Will Be Open to the Public.

PERSON TO CONTACT FOR INFORMATION: Bryan Whitener, Telephone: (202) 566-3100.

Alice Miller,
Chief Operating Officer, U.S. Election Assistance Commission.

[FR Doc. 2010-7623 Filed 3-31-10; 4:15 pm]

BILLING CODE 6820--KF-P